DEPARTMENT OF THE INTERIOR

Fish and Wildlife Service

RIN 1018-AU24

Policy on National Wildlife Refuge System Mission and Goals and Refuge Purposes

AGENCY: Fish and Wildlife Service, Interior.

ACTION: Notice of availability.

SUMMARY: The U.S. Fish and Wildlife Service (we, or the Service) is issuing this policy to articulate the mission and goals of the National Wildlife Refuge System (Refuge System) and their relationship to refuge purposes. This chapter is consistent with principles contained in the National Wildlife Refuge System Administration Act of 1966 (Administration Act), as amended by the National Wildlife Refuge System Improvement Act of 1997 (Improvement Act), including recognizing the priority for management activities and uses set forth in the Improvement Act (conserve fish, wildlife, and plants and their habitats; facilitate compatible wildlife-dependent recreational uses; and other uses). This policy describes the Refuge System mission, revises the Refuge System goals, and provides guidance for identifying or determining the purpose(s) of individual refuges within the Refuge System. This chapter also describes how the purpose(s) of a refuge addition relates to the original refuge purpose(s) and how wilderness designated under the Wilderness Act of 1964 (Wilderness Act) relates to a refuge's purpose(s). We are incorporating this policy as Part 601, Chapter 1, of the Fish and Wildlife Service Manual (601 FW 1).

DATES: This policy is effective July 26, 2006.

FOR FURTHER INFORMATION CONTACT: Carol Carson, Refuge Program Specialist, Division of Conservation Planning and Policy, National Wildlife Refuge System, U.S. Fish and Wildlife Service, 4401 North Fairfax Drive, Room 670, Arlington, Virginia 22203; telephone (703) 358-1744.

SUPPLEMENTARY INFORMATION: The Improvement Act (Pub. L. 105-57) amends and builds upon the Administration Act (16 U.S.C. 668dd et seq.), providing an “organic act” for the Refuge System. It clearly establishes that conservation and management of fish, wildlife, and plants and their habitats are the fundamental mission of the Refuge System and prioritizes refuge purposes in relation to the Refuge System mission. It states that we will manage each refuge to fulfill the mission of the Refuge System, as well as the specific purpose(s) for which that refuge was established. This policy is intended to improve the internal management of the Service, and it is not intended to, and does not, create any right or benefit, substantive or procedural, enforceable at law or equity by a party against the United States, its Departments, agencies, instrumentalities or entities, its officers or employees, or any other person.

The Improvement Act also provides a clear hierarchy of activities: conservation and management of fish, wildlife, and plants and their habitats; compatible wildlife-dependent recreational uses; and other uses. This chapter reflects that hierarchy.

We published a notice in the Federal Register on January 23, 1998 (63 FR 3583), notifying the public that we would be revising the Service Manual to establish policy (and/or regulations) as it relates to the Improvement Act. On January 16, 2001, we published in the Federal Register a draft policy on the National Wildlife Refuge System Mission, Goals, and Purposes (66 FR 3668, RIN 1018-AG46). The initial comment period closed on March 19, 2001. On March 15, 2001, we extended the comment period to April 19, 2001 (66 FR 15136). On May 15, 2001, we reopened the comment period to June 14, 2001 (66 FR 26879), and on June 21, 2001, we reopened the comment period until June 30, 2001 (66 FR 33268), and corrected the May 15, 2001, notice to reflect that comments received between April 19 and May 15, 2001, would be considered and need not be resubmitted.

Response to Comments Received

During the combined comment periods, we received 527 comment responses from State agencies or commissions, Federal agencies, nongovernmental organizations of both national and local scope, and individuals that resulted in 566 unique comments. Each unique comment was evaluated and categorized into one of 15 issues. One category (488 commenters) reflected general support for the policy, but did not cite a specific concern. A second category (3 commenters) was not specific, but generally did not support the policy; and a third category (11 commenters) did not specifically relate to this policy or was not substantive. We categorized the remaining issues into 12 main issues:

1. Coordination with State Fish and Wildlife Agencies;

2. Clarification of Terms or Wording Used in the Policy;

3. Impact on Compatible Wildlife-Dependent Recreation;

4. Quality of Life;

5. Wilderness Designations and the Impact on Purposes/Management;

6. Emphasis on Waterfowl Management;

7. Timing of Policy Issuance;

8. Hunting in the Public Use Goal;

9. Need for the Policy and Conflicts with the Improvement Act;

10. Private Landowner Rights;

11. Process for Determining and Applying Purposes; and

12. Relationship of Refuge System Mission and Service Mission.

We revised the policy title to clarify that the focus is on the mission and goals for the National Wildlife Refuge System as a whole and their relationship to individual refuge purposes.

Issue 1: Coordination With State Fish and Wildlife Agencies

Comment: We received 10 comments concerning this issue. State fish and wildlife agencies were the primary commenters and expressed concern that more coordination was needed on this and other policies that were published simultaneously as a result of the Improvement Act. Several commenters expressed the need for more time to review and comment on the policy. One commenter asked that the States be consulted when the refuge purpose was unclear and additional research was needed. The same commenter also requested that we add into the policy a requirement to involve States in any decisionmaking process.

Response: Both the Service and the State fish and wildlife agencies have authorities and responsibilities for management of fish and wildlife on national wildlife refuges as described in Code of Federal Regulations (CFR), Title 43, part 24. Consistent with the Administration Act, as amended, the Director of the Service will interact, coordinate, cooperate, and collaborate with the State fish and wildlife agencies in a timely and effective manner on the acquisition and management of refuges. Under both the Administration Act, as amended, and 43 CFR part 24, the Director of the Service, as the Secretary's designee, will ensure that Refuge System regulations and management plans are, to the extent practicable, consistent with State laws, regulations, and management plans. We charge refuge managers, as the designated representatives of the Director at the local level, with carrying out these directives. We will provide State fish and wildlife agencies timely and meaningful opportunities to participate in the development and implementation of programs conducted under this policy. These opportunities will most commonly occur through State fish and wildlife agency representation on comprehensive conservation plan (CCP) planning teams. However, we will provide other opportunities for the State fish and wildlife agencies to participate in the development and implementation of program changes that would be made outside of the CCP process. Further, we will continue to provide State fish and wildlife agencies opportunities to discuss and, if necessary, elevate decisions within the hierarchy of the Service.

During the comment period, we developed summaries of this and other policies and sent them to each State. We held numerous meetings with individual State fish and wildlife agencies, through the International Association of Fish and Wildlife Agencies, to explain the policy and discuss concerns. We extended the comment period three times to accommodate additional review and comment. To address concerns, we added a section in the policy concerning consultation with the States. We also changed the decision process for determining refuge purpose(s) in Exhibit 1 by adding the provision that we should consult with the States when determining refuge purpose(s) requires further research.

Issue 2: Clarification of Terms or Wording Used in the Policy

Comment: We received 20 comments with suggested editorial changes to clarify the meaning of certain terms or policy. These suggested changes included using the word “conserve” versus “preserve,” deleting the term “ecosystem(s)” if not germane to the section, clarifying the terms “historic” and “native,” and adding recognition of habitat manipulation as an acceptable practice in attaining some goals. An underlying concern among several commenters was that the policy might be perceived as diluting the mandate to administer and manage refuges in accordance with their purpose(s).

Response: We reviewed and edited the policy specific to the comments above to improve clarity and understanding. We changed the term “preserve” to “conserve,” deleted the term “ecosystem(s)” if it did not add meaning to a section, and added the role of habitat management in the goals section. The term “historic” is not used in the final policy. Therefore, we did not define it. The term “native” is used in a quote, in the title of a law, and relative to the policy on biological integrity, diversity, and environmental health (601 FW 3). We did not define the term since it is defined in that policy. In addition, we changed the term “unit” to “refuge” to be consistent with other policies and added a section defining the term “refuge.” Finally, we removed the original Goal A (draft sections 1.6A and 1.7A) and moved it to a separate and new section (section 1.5) in the front of the policy to emphasize our duty imposed by the Improvement Act to manage each refuge to fulfill and carry out the purpose(s) for which it was established.

Issue 3: Impact on Wildlife-Dependent Recreation

Comment: Nine commenters expressed concern that parts of the policy may be interpreted in a way that would discourage wildlife-dependent recreation on refuges.

Response: We reviewed the policy and made appropriate changes to ensure that wording did not diminish the clear policy in the Improvement Act that compatible wildlife-dependent recreation (hunting, fishing, wildlife observation and photography, and environmental education and interpretation) is a legitimate and appropriate general public use of the Refuge System. Compatible wildlife-dependent recreational uses are the priority general public uses of the Refuge System and receive priority consideration in refuge planning and management. We think the policy strongly supports the intent of the Improvement Act by making compatible wildlife-dependent recreation a goal of the Refuge System.

Issue 4: Quality of Life

Comment: We received four comments in this category. One commenter requested that mosquito control be added as a goal of the Refuge System in the context that refuges should contribute to the quality of life around them. The other commenters raised some concern over how the Service would deal with the air quality effects of encouraging natural processes such as fire.

Response: Due to the complexity and inherent local differences and circumstances of mosquito control, we are developing a separate policy to address that issue. In addition, we believe this final policy is an umbrella policy, broad in scope and intent, and is not the proper forum for guidance on specific, on-the-ground management actions. In regard to air quality and fire, we consider public health, safety, and air quality when planning and conducting prescribed burns. Each refuge should have in place a fire management plan that addresses these concerns in detail.

Issue 5: Wilderness Designations and the Impact on Purposes/Management

Comment: Four commenters voiced concern about how designated wilderness on a refuge affects the purpose(s) for which the refuge was established. Some felt the purposes of the Wilderness Act (16 U.S.C. 1131-1136) had been misapplied and managing a refuge with designated wilderness would conflict with the establishing purpose(s) of a refuge.

Response: We carefully reviewed sections 1.14 and 1.16 of the draft policy (sections 1.15 and 1.17 of the final policy) with regard to the purpose(s) of a refuge and wilderness designation. We modified these sections to clarify their intent and ensure consistency with both the Improvement Act and the Wilderness Act. Specifically, we removed any reference to designated wilderness in the first section (1.15), and we changed the second section (1.17) by deleting the reference to wilderness purposes being equal to a refuge's purpose(s) and substituting language from the Wilderness Act that states that the purposes of the Wilderness Act are to be “within and supplemental” to the purposes of refuges and other Federal lands. We clarified our interpretation that “within and supplemental” means wilderness purposes become additional purposes of the refuge, yet apply only to those areas of the refuge designated as wilderness. Wilderness purposes and refuge purposes are not mutually exclusive, but rather wilderness designations provide additional considerations for determining the administrative and management actions we need to take to achieve a refuge's purpose(s) on designated wilderness areas within the Refuge System.

Issue 6: Emphasis on Waterfowl Management

Comment: One commenter was concerned that Goal C of the draft policy (Perpetuate migratory bird, interjurisdictional fish, and marine mammal populations) placed too much emphasis on waterfowl management.

Response: It is critical to reaffirm the Refuge System's important role in the conservation of the Nation's waterfowl resource. The concern of waterfowl hunters and other conservationists over drastically declining waterfowl populations and habitat spurred the tremendous growth of the Refuge System in the 1930s. Waterfowl conservation continues to be an important function of the Refuge System among the various Federal land systems, bringing enjoyment to millions of visitors who view the migration spectacle or take part in quality waterfowl hunting programs. However, this recognition of the role refuges play in the conservation of the waterfowl resource does not diminish the important and increasing role the Refuge System plays in the conservation of all migratory birds and other Federal trust species. Thus, we made no changes to Goal C of the draft policy (Goal B of the final policy) based upon this comment.

Issue 7: Timing of Policy Issuance

Comment: Two commenters stated that this policy should have preceded other policies that are now final, especially the Biological Integrity, Diversity, and Environmental Health Policy.

Response: We do not disagree with these comments, but we had to make a number of decisions with regard to our policy development. The decision to proceed first with policies on refuge planning; compatibility; and biological integrity, diversity, and environmental health stemmed in part from specific direction in the Improvement Act. At that time, we felt it prudent to begin with those policies that had specific directives in the Improvement Act. We will be reviewing our policies once they are all finalized in order to ensure consistency among them as a group.

Issue 8: Hunting in the Public Use Goal

Comment: One commenter stated that reference to hunting should be deleted from Goal F (in the draft policy) on providing safe, quality, wildlife-dependent recreation on refuges.

Response: As clearly stated in the Improvement Act, compatible wildlife-dependent recreational uses (hunting, fishing, wildlife observation and photography, and environmental education and interpretation) are legitimate and appropriate uses of the Refuge System, are the priority general public uses of the Refuge System, and should be facilitated. The goals, as revised, reiterate this. Thus, we made no change to Goal F of the draft policy (Goal E of the final policy) based on this comment.

Issue 9: Need for the Policy and Perceived Conflicts With the Improvement Act

Comment: One commenter expressed concern that the policy went beyond the intent of the Improvement Act or might serve to usurp directives in the Improvement Act. They also recommended we delete the entire section dealing with goals since the Improvement Act does not support the establishment of goals for the Refuge System and questioned certain terms and phrases that may lead to misinterpretation by refuge managers and thus lead to actions contrary to the Improvement Act.

Response: As stated in the policy, we believe revising the Refuge System goals is an important bridge between the Improvement Act and carrying out our obligations under it for planning, administration, management, and growth of the Refuge System. The Refuge System has operated with goals similar to the ones in this policy for decades. Our aim in revising these goals was to ensure consistency with the Improvement Act and to capture the evolution in the science and practice of fish and wildlife management that has occurred since we articulated the original goals in the Refuge Manual (2 RM 1.4). We have closely reviewed these goals and their meaning to ensure they are not contrary to provisions in the Improvement Act. This final policy improves clarity and consistency with the Improvement Act with respect to individual refuge purposes and the Refuge System mission.

Issue 10: Private Landowner Rights

Comment: Two commenters expressed concern that some provisions in this policy may adversely affect private property rights of refuge neighbors.

Response: We found nothing in the policy that could be construed as adversely affecting private property rights. This policy deals specifically with lands, waters, and interests within the Refuge System and does not apply outside the Refuge System. We continue to be mindful of our refuge neighbors in our administrative and management actions on refuges and often rely heavily on cooperation and collaboration with neighboring private landowners to help achieve the purpose(s) of a refuge. Many refuges help deliver the Service's Partners for Fish and Wildlife Program, which provides technical assistance to surrounding landowners who wish to enhance their lands for fish and wildlife.

Issue 11: Process for Determining and Applying Purposes

Comment: Six commenters expressed concern about the process for determining and applying refuge purposes. One commenter noted that purposes derived from Executive orders and legislation are often vague and can lead to varying interpretations and felt the policy should provide additional details on refining purposes. Other comments included opposition to changing refuge purpose(s), support for ensuring that purpose(s) remained more important than the mission of the Refuge System, and opposition to setting a priority among multiple purposes. Several commenters expressed concern that going beyond purposes in executive or legislative actions would lead to endless debate and misinterpretation of the history and memorandums associated with some refuge establishments.

Response: The Improvement Act, although specific in describing from where purposes are specified or derived (laws, proclamations, Executive orders, agreements, public land orders, donation documents, and administrative memoranda), did not articulate a specific process for determining purpose(s). We sought to do that in this policy, reiterating what the Improvement Act defined while providing guidance for those rare instances where establishing documents do not clearly specify purpose(s). We are not authorizing any change of purposes. We are only spelling out the process by which we identify the purposes that have been established in those specific sources. By doing so, we ensure that we will consider what the law requires.

We also believe trying to describe additional details on refining purposes would result in a complicated process that may cause more confusion, rather than less. Comprehensive conservation planning teams develop goals and objectives consistent with the Improvement Act and individual refuge purposes during the CCP process, and we believe that process is the forum to solidify, focus, and clarify refuge purposes. The planning process provides an opportunity for the involvement of representatives of other Federal agencies, State fish and wildlife or other conservation agencies, tribes, nongovernmental groups, refuge neighbors, and the general public, thus ensuring a balanced approach in developing goals and objectives that flow from a refuge's purpose(s). In order to further clarify potentially broad refuge purposes, we added section 1.19 (How does the Refuge System focus planning and development of management goals and objectives for refuges where the purpose(s) seems overly broad?).

This policy maintains the clear direction in the Improvement Act that, if a conflict exists between carrying out the purpose(s) of a refuge and the mission of the Refuge System, refuge purposes take precedence. We have strengthened this directive by adding a new section 1.5 on why a refuge's purpose(s) has priority over the mission and goals of the Refuge System.

The relationship between multiple purposes on a given refuge and additions to existing refuges under different authorities (with different purposes) was important to address in the policy (section 1.15 of the draft policy and section 1.16 of the final policy). Purposes, as stated in the Improvement Act, are the basis for determining whether a use of the refuge is compatible. Determining compatibility of a use is, by its nature, site- or area-specific. Extending the purposes of the original refuge to areas that are added later is important, especially in those instances where the purpose for acquiring tracts or units may be quite different from the purpose of the original refuge. However, this extension of the purpose of the original refuge does not override or displace the purpose for which the new area was acquired. For example, some refuges established under authority of the Migratory Bird Conservation Act added lands under the authority of the Refuge Recreation Act. These acts provide very different purposes, and we consider it important that the conservation purposes of the “mother refuge” flow to the additions or “children” with a recreation purpose to preserve congressional and administrative intent. We also consider setting a priority among multiple purposes important should a conflict between such purposes arise, and fish and wildlife-related purposes take precedence over any nonwildlife purposes according to the clear hierarchy established in the Improvement Act and associated House Report.

Issue 12: Relationship of Refuge System Mission and Service Mission

Comment: One commenter requested that section 1.5 in the draft policy dealing with the relationship of the Refuge System mission and the Service mission be deleted or revised to avoid the interpretation that the Service mission has equal weight with the Refuge System mission.

Response: We consider it important to explain the mission of the Refuge System within the organizational context of the Service (section 1.7 of the final policy). Within the Refuge System, we are charged with achieving refuge purposes and the Refuge System mission. By fulfilling these charges, we contribute significantly to the Service mission.

Required Determinations

Regulatory Planning and Review (Executive Order 12866)

In accordance with the criteria in Executive Order (E.O.) 12866, this document is not a significant regulatory action. The Office of Management and Budget (OMB) makes the final determination under E.O. 12866.

1. This document will not have an annual economic effect of $100 million or adversely affect an economic sector, productivity, jobs, the environment, or other units of government. A cost-benefit or full economic analysis is not required. This document is administrative and procedural in nature. The Improvement Act provides legal recognition for the Refuge System mission and its relationship to refuge purposes. This policy reiterates the Refuge System mission and provides guidance for identifying or determining refuge purpose(s). We expect this policy will not cause a measurable economic effect to existing refuge public use programs.

The appropriate measure of the economic effect of changes in recreational use is the change in the welfare of recreationists. We measure this in terms of willingness to pay for the recreational opportunity. We estimated total annual willingness to pay for all recreation at refuges to be $792.1 million in fiscal year 2001 (Banking on Nature: The Economic Benefits to Local Communities of National Wildlife Refuge Visitation, DOI/FWS/Refuges, 2003). We expect the policy implemented in this document will not affect public uses of the Refuge System. This policy stipulates that, in accordance with direction given in the Improvement Act, a refuge purpose will receive priority consideration over Refuge System mission should there be a conflict between the two.

2. This document will not create a serious inconsistency or otherwise interfere with an action taken or planned by another agency since the document pertains solely to management of refuges by the Service.

3. This document does not alter the budgetary effects of entitlements, grants, user fees, or loan programs or the rights or obligations of their recipients. No grants or other Federal assistance programs are associated with public use of refuges.

4. This document does not raise novel legal or policy issues; however, it does provide guidance for ensuring that conservation and management of fish, wildlife, and plants and their habitats and facilitating compatible wildlife-dependent recreational uses receive priority consideration, in respective order, for administration of the Refuge System.

Regulatory Flexibility Act

We certify that this document will not have a significant economic effect on a substantial number of small entities under the Regulatory Flexibility Act (5 U.S.C. 601 et seq.).

Congress created the Refuge System to conserve fish, wildlife, and plants and their habitats and facilitated this mission by providing Americans opportunities to visit and participate in compatible wildlife-dependent recreation (hunting, fishing, wildlife observation and photography, and environmental education and interpretation) as priority general public uses on refuges and to better appreciate the value of, and need for, fish and wildlife conservation.

This document is administrative and procedural in nature and provides a hierarchy of activities on refuges: conservation and management of fish, wildlife, and plants and their habitats, compatible wildlife-dependent recreation; and other uses. Since we determine the permissibility of wildlife-dependent recreational uses on a refuge with the establishment of the refuge, which includes an opportunity for public comment, this policy will not significantly affect public uses of refuges and, consequently, any business establishments in the vicinity of any refuge.

Refuge visitation is a small component of the wildlife recreation industry as a whole. In 2001, 82 million U.S. residents 16 years old and older spent 1.2 billion activity-days in wildlife-associated recreation activities. They spent about $108 billion on fishing, hunting, and wildlife watching trips (Tables 1, 50, 52, and 68, 2001 National Survey of Fishing, Hunting, and Wildlife-Associated Recreation, DOI/FWS/FA, 2002). Refuges recorded about 39 million visitor-days in fiscal year 2003 (Refuge Management Information System, FY2003 Public Use Summary). A 2003 study of refuge visitors found their travel spending generated $809 million in sales and 19,000 jobs for local economies (Banking on Nature: The Economic Benefits to Local Communities of National Wildlife Refuge Visitation, DOI/FWS/Refuges, 2003). These spending figures include spending which would have occurred in the community anyway, and so they show the importance of the activity in the local economy rather than its incremental impact. Marginally greater recreational opportunities on refuges will have little industrywide effect.

We expect no changes in expenditures as a result of this document. We expect no change in recreational opportunities, so we do not expect the document to have a significant economic effect on a substantial number of small entities in any region or nationally.

Small Business Regulatory Enforcement Fairness Act (SBREFA)

This document is not a major rule under 5 U.S.C. 804(2), the Small Business Regulatory Enforcement Fairness Act. This document:

1. Does not have an annual effect on the economy of $100 million or more. This document will only affect visitors at refuges. It may result in increased visitation at refuges and provide for minor changes to the methods of public use permitted within the Refuge System. See “Regulatory Flexibility Act.”

2. Will not cause a major increase in costs or prices for consumers, individual industries, Federal, State, or local government agencies, or geographic regions. See “Regulatory Flexibility Act.”

3. Does not have significant adverse effects on competition, employment, investment, productivity, innovation, or the ability of U.S.-based enterprises to compete with foreign-based enterprises. See “Regulatory Flexibility Act.”

Unfunded Mandates Reform Act

In accordance with the Unfunded Mandates Reform Act (2 U.S.C. 1501, et seq.):

1. This document will not “significantly or uniquely” affect small governments. A Small Government Agency Plan is not required. See “Regulatory Flexibility Act.”

2. This document will not produce a Federal mandate of $100 million or greater in any year; it is not a “significant regulatory action” under the Unfunded Mandates Reform Act. See “Regulatory Flexibility Act.”

Takings (E.O. 12630)

In accordance with E.O. 12630, the document does not have significant takings implications. A takings implication assessment is not required. This policy may result in increased visitation at refuges and provide for minor changes to the methods of public use permitted within the Refuge System. Refer to “Regulatory Flexibility Act.”

Federalism (E.O. 13132)

In accordance with E.O. 13132, the document does not have significant federalism effects. This document will not have substantial direct effects on the States, on the relationship between the Federal Government and the States, or on the distribution of power and responsibilities among the various levels of government. Therefore, in accordance with E.O. 13132, we have determined that this document does not have sufficient federalism implications to warrant the preparation of a Federalism Assessment.

Civil Justice Reform (E.O. 12988)

In accordance with E.O. 12988, the Office of the Solicitor has determined that the document does not unduly burden the judicial system and meets the requirements of sections 3(a) and 3(b)(2) of the Order. This policy will expand upon established policy and result in better understanding of the policy by refuge visitors.

Energy Supply, Distribution, or Use (E.O. 13211)

On May 18, 2001, the President issued E.O. 13211 on regulations that significantly affect energy supply, distribution, and use. Executive Order 13211 requires agencies to prepare Statements of Energy Effects when undertaking certain actions. Because this notice provides to refuge managers general information on the National Wildlife Refuge System Mission and Goals and Refuge Purposes, it is not a significant regulatory action under E.O. 12866 and is not expected to significantly affect energy supplies, distribution, and use. This notice does not designate any areas that have been identified as having oil or gas reserves, whether in production or otherwise identified for future use. Therefore, this action is not a significant energy action, and no Statement of Energy Effects is required.

Consultation and Coordination With Indian Tribal Governments (E.O. 13175)

In accordance with E.O. 13175, we have evaluated possible effects on federally recognized Indian tribes and have determined that there are no effects. We coordinate recreational use on refuges with tribal governments having adjoining or overlapping jurisdiction before we propose the activities. This policy is consistent with and not less restrictive than tribal reservation rules.

Paperwork Reduction Act

This document does not include any new information collections that would require Office of Management and Budget (OMB) approval under the Paperwork Reduction Act of 1995 (44 U.S.C. 3501 et seq.). An agency may not conduct or sponsor, and a person is not required to respond to, a collection of information unless it displays a currently valid OMB control number.

National Environmental Policy Act

We ensure compliance with the National Environmental Policy Act of 1969 (NEPA) (42 U.S.C. 4321-4347) when developing refuge policies. In accordance with 516 DM 2, appendix 1.10, we have determined that this document is categorically excluded from the NEPA process because it is limited to policies, directives, regulations, and guidelines of an administrative, financial, legal, technical, or procedural nature, the environmental effects of which are too broad, speculative, or conjectural to lend themselves to meaningful analysis. Site-specific proposals, as indicated above, will be subject to the NEPA process.

Primary Author

Don Hultman, Refuge Supervisor, Midwest Region, National Wildlife Refuge System, U.S. Fish and Wildlife Service, was the primary author of this notice.

Availability of the Policy

The Final National Wildlife Refuge System Mission and Goals and Refuge Purposes Policy is available at this Web site: http://policy.fws.gov/ser600.html. Persons without Internet access may request a hard copy by contacting the office listed under the heading FOR FURTHER INFORMATION CONTACT.

Dated: January 20, 2006.
H. Dale Hall,
Director, U.S. Fish and Wildlife Service.

Note: This document was received at the Office of the Federal Register on June 21, 2006.

[FR Doc. 06-5643 Filed 6-23-06; 8:45 am]

BILLING CODE 4310-55-P